ENVIRONMENTAL PROTECTION AGENCY

[FRL-8167-6]

Proposed CERCLA Administrative Cost Recovery Settlement; Estate of Evelyn Porter Superfund Site

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the Estate of Evelyn Porter Superfund site in Foxborough, Massachusetts with the following settling party: the Estate of Evelyn Porter. The settlement requires the settling party to pay 100% of the Net Liquid Assets of the Estate of Evelyn Porter and 100% of the Net Sales Proceeds from the sale of the Property to the Hazardous Substance Superfund. The settlement includes a covenant not to sue the settling parties pursuant to sections 106 and 107(a) of CERCLA, 42 U.S.C. 9506 and 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at Superfund Reading Room, U.S. Environmental Protection Agency Regional Office, located at One Congress Street, Suite 1100, Boston, Massachusetts 02114.

DATES: Comments must be submitted on or before June 5, 2006.

ADDRESSES: The proposed settlement is available for public inspection at the Superfund Reading Room, U.S. Environmental Protection Agency Regional Office, located at One Congress Street, Suite 1100, Boston, Massachusetts 02114.

FOR FURTHER INFORMATION CONTACT: A copy of the proposed Agreement and Covenant Not to Sue can be obtained from Rona H. Gregory, Senior Assistant Regional Counsel, U.S. Environmental Protection Agency, Region I, One Congress Street, Suite 1100, Mailcode RAA, Boston, Massachusetts 02214, (617) 918-1096. Comments should reference the Estate of Evelyn Porter Superfund Site in Foxborough, Massachusetts, and EPA Docket No. 01-2006-0070 and should be addressed to Regional Hearing Clerk, U.S. Environmental Protection Agency, One Congress Street, Suite 1100, Boston, MA 02114.

Dated: April 19, 2006.
Susan Studlien,
Director, Office of Site Remediation and Restoration.

[FR Doc. E6-6862 Filed 5-4-06; 8:45 am]

BILLING CODE 6560-50-P